DEPARTMENT OF HEALTH AND HUMAN SERVICES

National Institutes of Health

Submission for OMB review; 30-Day Comment Request; The National Institute of Mental Health Data Archive (NDA) Data Access Closeout Report, NIMH

AGENCY: National Institutes of Health, HHS.

ACTION: Notice.

SUMMARY: In compliance with the Paperwork Reduction Act of 1995, the National Institutes of Health (NIH) has submitted to the Office of Management and Budget (OMB) a request for review and approval of the information collection listed below.

DATES: Comments regarding this information collection are best assured of having their full effect if received within 30 days of the date of this publication.

ADDRESSES: Written comments and recommendations for the proposed information collection should be sent within 30 days of publication of this notice to www.reginfo.gov/public/do/PRAMain. Find this particular information collection by selecting “Currently under 30-day Review—Open for Public Comments” or by using the search function.

FOR FURTHER INFORMATION CONTACT: To request more information on the proposed project or to obtain a copy of the data collection plans and instruments, contact: Andrew Hooper, National Institute of Mental Health (NIMH) Project Clearance Liaison, Science Policy and Evaluation Branch, Office of Science Policy, Planning and Communications, NIMH, Neuroscience Center, 6001 Executive Boulevard, MSC 9667, Bethesda, Maryland 20892, call (301) 480-8433 or Email your request, including your address to nimhprapubliccomments@mail.nih.gov.

SUPPLEMENTARY INFORMATION: This proposed information collection was previously published in the Federal Register on August 7, 2025, (90 FR 38171) and allowed 60 days for public comment. No public comments were received. The purpose of this notice is to allow an additional 30 days for public comment.

The National Institute of Mental Health (NIMH), National Institutes of Health, may not conduct or sponsor, and the respondent is not required to respond to, an information collection that has been extended, revised, or implemented on or after October 1, 1995, unless it displays a currently valid OMB control number.

In compliance with Section 3507(a)(1)(D) of the Paperwork Reduction Act of 1995, the NIH has submitted to the Office of Management and Budget (OMB) a request for review and approval of the information collection listed below.

Proposed Collection Title: The National Institute of Mental Health Data Archive (NDA) Data Access Closeout Report, NEW, OMB # 0925-XXXX, exp., date XX/XX/XXXX, National Institutes of Health (NIH).

Need and Use of Information Collection: This request serves as notice that the National Institutes of Health (NIH) plans to continue supporting the research community's utilization of the NIMH Data Archive (NDA) through the addition of the Data Access Closeout Report, which collects information about researchers who are completing an approved term of access to shared data in the NDA. The NDA is an infrastructure for sharing human subjects research data and tools to further collaboration and scientific discovery. The information collected in the Closeout Report is needed to monitor the expiration of permissions to access NDA data, track and report on permissions and requests, confirm destruction of all copies of accessed data, ensure that the terms of access are followed, and provide appropriate attribution for data contributions, and communicate important information about the NDA.

OMB approval is requested for 3 years. There are no costs to respondents other than their time. The total estimated annualized burden hours are 471.

Estimated Annualized Burden Hours
Type of respondent | Number of respondents | Number of responses per respondent | Average time per response (in hours) | Total annual burden hours
Researchers | 941 | 1 | 30/60 | 471
Total | — | 941 | — | 471

Dated: February 11, 2026.
Andrew A. Hooper,
Project Clearance Liaison, National Institute of Mental Health, National Institutes of Health.

[FR Doc. 2026-03034 Filed 2-13-26; 8:45 am]

BILLING CODE 4140-01-P